DEPARTMENT OF HOMELAND SECURITY

Coast Guard

33 CFR Part 100

[Docket No. USCG-2017-0944]

Special Local Regulations; Charleston Harbor Christmas Parade of Boats, Charleston, SC

AGENCY: Coast Guard, DHS.

ACTION: Notice of enforcement of regulation.

SUMMARY: The Coast Guard will enforce the special local regulation pertaining to the Charleston Harbor Christmas Parade of Boats on December 9, 2017. This action is necessary to ensure safety of life on navigable waters of the United States during the Charleston Harbor Christmas Parade of Boats. During the enforcement period, and in accordance with previously issued special local regulations, no person or vessel may enter, transit through, anchor in, or remain within the designated area unless authorized by the Captain of the Port Charleston or a designated representative.

DATES: The regulation in 33 CFR 100.701, Table to § 100.701, Item (g)(6) will be enforced on December 9, 2017 from 4 p.m. until 8 p.m.

FOR FURTHER INFORMATION CONTACT: If you have questions about this notice of enforcement, call or email LT Justin Heck, Sector Charleston Office of Waterways Management, Coast Guard; telephone (843) 740-3184, email Justin.C.Heck@uscg.mil.

SUPPLEMENTARY INFORMATION: The Coast Guard will enforce the special local regulation for the Charleston Harbor Christmas Parade of Boats in the Table to 33 CFR 100.701, item (g)(6), from 4 p.m. through 8 p.m. on December 9, 2017.

Under the provisions of 33 CFR 100.701, no vessels or people may enter into, transit through, anchor in, or remain within the regulated area, unless authorized to do so by the Captain of the Port Charleston or a designated representative. Only event sponsors, designated participants, and official patrol vessels are allowed to enter the regulated area. This rule creates a regulated area that will encompass a portion of the waterways during the parade transit from Charleston Harbor Anchorage A through Bennis Reach, Horse Reach, Hog Island Reach, Town Creek Lower Reach, Ashley River, and finishing at City Marina. Spectator vessels may safely transit outside the regulated area, but may not anchor in, block, loiter in, or impede the transit of parade participants or official patrol vessels. The Coast Guard may be assisted by other Federal, State, or local law enforcement agencies in enforcing this regulation.

This notice of enforcement is issued under authority of 33 CFR 100.701 and 5 U.S.C. 552 (a). The Coast Guard will provide notice of the regulated areas by Local Notice to Mariners, Broadcast Notice to Mariners, and on-scene designated representatives.

Dated: November 20, 2017.
J.W. Reed,
Captain, U.S. Coast Guard, Captain of the Port, Charleston.

[FR Doc. 2017-25533 Filed 11-24-17; 8:45 am]

BILLING CODE 9110-04-P